FEDERAL MINE SAFETY AND HEALTH REVIEW COMMISSION

Sunshine Act Meeting

September 5, 2001.

TIME AND DATE: 10 a.m., Thursday, October 11, 2001.

PLACE: Room 6005, 6th Floor, 1730 K Street, NW., Washington, D.C.

STATUS: Open.

MATTERS TO BE CONSIDERED: The Commission will hear oral argument on the following:

1. Kinder Morgan Operating L.P. “C,” Docket Nos. KENT 2000-128-R, etc. (Issues include whether the judge correctly determined that Kinder Morgan is engaged in “the work of preparing the coal” as defined in section 3(i) of the Mine Act, and that Kinder Morgan's marine terminal is therefore a “coal or other mine” under section 3(h)(1) of the Mine Act).

TIME AND DATE: 2 p.m., Thursday, October 11, 2001

PLACE: Room 6005, 6th Floor, 1730 K Street, NW., Washington, D.C.

STATUS: Closed [Pursuant to 5 U.S.C. § 552b(c)(10)].

MATTERS TO BE CONSIDERED: It was determined by a majority vote of the Commission that the Commission consider and act upon the following in closed session:

1. Kinder Morgan Operating L.P. “C,” Docket Nos. KENT 2000-128-R, etc. (see oral argument listing).

Any person attending an open meeting who requires special accessibility features and/or auxiliary aids, such as sign language interpreters, must inform the Commission in advance of those needs. Subject to 29 C.F.R. § 2706.150(a)(3) and § 2706.160(d).

CONTACT PERSON FOR MORE INFO: Jean Ellen (202) 653-5629 / (202) 708-9300 for TDD Relay / 1-800-877-8339 for toll free.

Jean H. Ellen,
Chief Docket Clerk.

[FR Doc. 01-22803 Filed 9-6-01; 3:40 pm]

BILLING CODE 6735-01-M